DEPARTMENT OF ENERGY

Environmental Management Site-Specific Advisory Board, Idaho National Engineering and Environmental Laboratory

AGENCY: Department of Energy.

ACTION: Notice of open meeting.

SUMMARY: This notice announces a meeting of the Environmental Management Site-Specific Advisory Board (EM SSAB), Idaho National Engineering and Environmental Laboratory. The Federal Advisory Committee Act (Pub. L. No. 92-463, 86 Stat. 770) requires that public notice of these meetings be announced in the Federal Register.

DATES: Tuesday, November 19, 2002, 8 a.m.-6 p.m., Wednesday, November 20, 2002, 8 a.m.-5 p.m.

Public participation sessions will be held on: Tuesday, November 19, 2002, 12:15-12:30 p.m., 5:45-6 p.m., Wednesday, November 20, 2002, 11:45-12 noon, 4-4:15 p.m.

These times are subject to change as the meeting progresses. Please check with the meeting facilitator to confirm these times.

ADDRESSES: West Coast Downtown, 1800 Fairview Avenue, Boise, Idaho 83702, Reservations: (208) 344-7691.

FOR FURTHER INFORMATION CONTACT: Ms. Wendy Lowe, Idaho National Engineering and Environmental Laboratory (INEEL) Citizens' Advisory Board (CAB) Facilitator, Jason Associates Corporation, 545 Shoup Avenue, Suite 335B, Idaho Falls, ID 83402, Phone (208) 522-1662 or visit the Board's Internet Home page at http://www.ida.net/users/cab.

SUPPLEMENTARY INFORMATION: Purpose of the Board: The purpose of the Board is to make recommendations to DOE and its regulators in the areas of future use, cleanup levels, waste disposition and cleanup priorities at the INEEL.

Tentative Agenda Topics: (Agenda topics may change up to the day of the meeting. Please contact Jason Associates for the most current agenda or visit the CAB's Internet site at www.ida.net/users/cab/.)

• Transition in INEEL's mission to Nuclear Energy

• Possible remedial actions to reduce risks associated with the buried waste at the Radioactive Waste Management Complex

• Performance Management Plan for Accelerating Cleanup and recent activities under the Environmental Management program

• Design for Stage II of the Pit 9 removal action

• Fiscal Year 2003 funding allocation for the INEEL cleanup program

• Final Idaho High-Level Waste and Facilities Disposition Environmental Impact Statement

• Consolidation of spent nuclear fuel into dry storage

• Remediation approach for the V Tanks in Waste Area Group I (Test Area North)

• The Draft Remedial Action Work Plan for the Sorting, Sizing and Staging Treatment Facility and the waste acceptance criteria for the INEEL Comprehensive Environmental Response, Compensation, and Liability Act Disposal Facility

• Status of the Waste Incidental to Reprocessing Determination if the lawsuit has been resolved

• Completion of the 3,100 Cubic Meter Project

• Status of Advanced Mixed Waste Treatment Project

• Values and priorities that should inform decisions related to decontamination and decommissioning of facilities at INEEL

• Possible changes in how the CAB issues press releases proposed by the Public Communications Committee

• Possible evaluation of presentations delivered to the CAB

Public Participation: This meeting is open to the public. Written statements may be filed with the Board facilitator either before or after the meeting. Individuals who wish to make oral presentations pertaining to agenda items should contact the Board Chair at the address or telephone number listed above. Request must be received five days prior to the meeting and reasonable provision will be made to include the presentation in the agenda. The Deputy Designated Federal Officer, Jerry Bowman, Assistant Manager for Laboratory Development, Idaho Operations Office, U.S. Department of Energy, is empowered to conduct the meeting in a fashion that will facilitate the orderly conduct of business. Every individual wishing to make public comment will be provided equal time to present their comments. Additional time may be made available for public comment during the presentations. This Federal Register notice is being published less than 15 days prior to the meeting date due to programmatic issues that had to be resolved prior to the meeting date.

Minutes: The minutes of this meeting will be available for public review and copying at the Freedom of Information Public Reading Room, 1E-190, Forrestal Building, 1000 Independence Avenue, SW., Washington, DC 20585 between 9 a.m. and 4 p.m., Monday through Friday except Federal holidays. Minutes will also be available by writing to Ms. Wendy Lowe, INEEL CAB Facilitator, Jason Associates Corporation, 545 Shoup Avenue, Suite 335B, Idaho Falls, ID 83402 or by calling (208) 522-1662.

Issued at Washington, DC on October 28, 2002.
Belinda G. Hood,
Acting Deputy Advisory Committee Management Officer.

[FR Doc. 02-27801 Filed 10-31-02; 8:45 am]

BILLING CODE 6450-01-P